DEPARTMENT OF EDUCATION

Applications for New Awards; Technical Assistance and Dissemination To Improve Services and Results for Children With Disabilities—The National Center for Systemic Improvement; Corrections

AGENCY: Office of Special Education and Rehabilitative Services, Department of Education.

ACTION: Notice; corrections.

SUMMARY: On March 21, 2024, the Department published in the Federal Register a notice inviting applications (NIA) for the FY 2024 Technical Assistance and Dissemination to Improve Services and Results for Children with Disabilities—The National Center for Systemic Improvement competition, Assistance Listing Number 84.326R. The Department is correcting the NIA by decreasing the estimated available funds and updating the maximum award amounts as well as extending the deadline date for transmittal of applications until May 22, 2024 and the deadline for intergovernmental review until July 22, 2024.

DATES: Applicability date: This correction is applicable May 1, 2024.

FOR FURTHER INFORMATION CONTACT: Perry Williams, U.S. Department of Education, 400 Maryland Avenue SW, Room 4A10, Washington, DC 20202. Telephone: (202) 987-0138. Email: Perry.Williams@ed.gov.

If you are deaf, hard of hearing, or have a speech disability and wish to access telecommunications relay services, please dial 7-1-1.

SUPPLEMENTARY INFORMATION: In the Federal Register of March 21, 2024, we published the NIA in the Federal Register (89 FR 20184). The NIA established a deadline date of May 20, 2024, for the transmittal of applications. We are extending the deadline date for transmittal of applications, because the Grants.gov platform will be closed for site maintenance from May 18-21, 2024. Since applicants will be unable to submit applications or work in the Grants.gov system during that time, we are extending the deadline to allow applicants additional time to complete and submit their applications. Following the publication of the NIA, the President signed the Further Consolidated Appropriations Act, 2024 (Pub. L. 118-47), on March 23, 2024. Title III of the Further Consolidated Appropriations Act decreased funding for the Technical Assistance and Dissemination to Improve Services and Results for Children with Disabilities program. Accordingly, we are correcting the NIA to reflect the updated estimated available funds maximum award amounts for this competition.

Applicants that have already submitted applications under this competition may resubmit applications but are not required to do so. If a new application is not submitted, the Department will use the application that was submitted by the original deadline. If a new application is submitted, the Department will consider the application that was last successfully submitted and received by 11:59:59 p.m., Eastern Time on the application deadline.

Note: All information in the NIA, including eligibility criteria, remains the same, except for the estimated funding amount and maximum award amounts.

Information about Technical Assistance and Dissemination to Improve Services and Results for Children with Disabilities is available on the Department's website at https://www2.ed.gov/programs/oseptad/index.html.

Program Authority: 20 U.S.C. 1463 and 1481.

Corrections

In FR Doc. 2024-05979, appearing on pages 20184-20193 of the Federal Register of March 21, 2024 (89 FR 20184), we make the following corrections:

1. On page 20190, in the first and second columns, In the section titled “II. Award Information”, following the heading “Estimated Available Funds:” remove “The Administration has requested $55,345,000 for the Technical Assistance and Dissemination to Improve Services and Results for Children with Disabilities program for FY 2024, of which we intend to use an estimated $6,250,000 for this competition. The actual level of funding, if any, depends on final congressional action. However, we are inviting applications to allow enough time to complete the grant process if Congress appropriates funds for this program.” and add, in its place, “$5,400,000 in year one, $5,750,000 in years two through five.”

2. On page 20190, in the second column, following the heading “Maximum Award:” remove “$6,250,000 for a single budget period of 12 months” and add, in its place, “$5,400,000 for a single budget period of 12 months in year one, $5,750,000 for a single budget period of 12 months in years two through five.”

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-09507 Filed 4-29-24; 11:15 am]

BILLING CODE 4000-01-P